ENVIRONMENTAL PROTECTION AGENCY

[OPP-34203E; FRL-6753-3]

Chlorpyrifos; Receipt of Requests For End-Use Product Amendments and Cancellations

AGENCY: Environmental Protection Agency (EPA).

ACTION: Notice.

SUMMARY: Companies that hold the pesticide registrations of enduse pesticide products containing chlorpyrifos [O,O-diethyl O-(3,5,6-trichloro-2-pyridinyl)phosphorothioate] have asked EPA to cancel or amend their registrations. Pursuant to section 6(f)(1) of the Federal Insecticide, Fungicide, and Rodenticide Act (FIFRA), EPA is announcing the Agency's receipt of these requests from the registrants. These requests for voluntary cancellation and amendment are the result of a memorandum of agreement signed by EPA and the basic manufacturers of the active ingredient chlorpyrifos on June 7, 2000. Registrants identified in this notice requesting voluntary cancellation and amendments are in large part the customer of these basic manufacturers. Given the potential risks, both dietary and nondietary, that chlorpyrifos use poses, especially to children, EPA intends to grant the requested cancellations and amendments to delete uses. EPA also plans to issue a cancellation order for the deleted uses and the canceled registrations at the close of the comment period for this announcement. Upon the issuance of the cancellation order, any distribution, sale, or use of chlorpyrifos products will only be permitted if such distribution, sale, or use is consistent with the terms of that order.

DATE: Comments must be received on or before December 18, 2000. Comments on the requested amendments to delete uses and the requested registration cancellations must be submitted to the address provided in ADDRESSES and identified by docket control number OPP-34203E.

ADDRESSES: Comments may be submitted by mail, electronically, or in person. Please follow the detailed instructions for each method as provided in Unit I. of the SUPPLEMENTARY INFORMATION. To ensure proper receipt by EPA, it is imperative that you identify docket control number OPP-34203E in the subject line on the first page of your response.

FOR FURTHER INFORMATION CONTACT: Tom Myers, Special Review and Reregistration Division (7508C), Office of Pesticide Programs, Environmental Protection Agency, 1200 Pennsylvania Ave., NW., Washington, DC 20460; telephone number: (703) 308-8589; fax number: (703) 308-8041; e-mail address: myers.tom@epa.gov.

SUPPLEMENTARY INFORMATION: This announcement consists of three parts. The first part contains general information. The second part addresses the registrants' requests for registration cancellations and amendments to delete uses. And the third part proposes existing stock provisions that will be set forth in the cancellation order that the Agency intends to issue at the close of the comment period for this announcement.

I. General Information

A. Does this Action Apply to Me?

This action is directed to the public in general. You may be potentially affected by this action if you manufacture, sell, distribute, or use chlorpyrifos products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules” and then look up the entry for this document under the “Federal Register—Environmental Documents.” You can also go directly to the Federal Register listings at http://www.epa.gov/fedrgstr/. To access information about the risk assessment for chlorpyrifos, go to the Home Page for the Office of Pesticide Programs or go directly http://www.epa.gov/pesticides/op/chlorpyrifos.htm.

2. In person. The Agency has established an official record for this action under docket control number OPP-34203E. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-34203E in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by email to: opp-docket@epa.gov, or you can submit a computer disk as described above. Do not submit any information electronically that you consider to be CBI. Avoid the use of special characters and any form of encryption. Electronic submissions will be accepted in WordPerfect 6.1/8.0 or ASCII file format. All comments in electronic form must be identified by docket control number OPP-34203E. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Receipt of Requests To Cancel and Amend Registrations To Delete Uses

A. Background

In a memorandum of agreement (Agreement) effective June 7, 2000, EPA and the basic manufacturers of the active ingredient chlorpyrifos agreed to several voluntary measures that will reduce the potential exposure to children associated with chlorpyrifos containing products. EPA initiated the negotiations with registrants after finding chlorpyrifos, as currently registered, was an exposure risk especially to children. As a result of the Agreement, registrants that hold the pesticide registrations of end-use products containing chlorpyrifos (who are in large part the customer of these basic manufacturers) have asked EPA to cancel or amend their registrations for these products. Pursuant to section 6(f)(1) of the Federal Insecticide, Fungicide, and Rodenticide Act (FIFRA), EPA is announcing the Agency's receipt of these requests from the registrants. With respect to the registration amendments, the registrants have asked EPA to amend end-use product registrations to delete the following uses: All termite control uses (these will be phased out); all residential uses (except for ant and roach baits in child resistant packaging (CRP) and fire ant mound drenches for public health purposes by licensed applicators and mosquito control for public health purposes by public health agencies); all indoor non-residential uses (except ship holds, industrial plants, manufacturing plants, food processing plants, and containerized baits in CRP); all outdoor non-residential sites (except golf courses, road medians, industrial plant sites, nonstructural wood treatments, and fire ant mound drenches for public health purposes by licensed applicators and mosquito control for public health purposes by public health agencies); and use on post-bloom apple trees. In addition, the companies agreed to limit the maximum chlorpyrifos end-use dilution to 0.5% active ingredient (a.i.) for termiticide uses that will be phased out, limit the maximum label application rate for outdoor non-residential use on golf courses, road medians, and industrial plant sites to 1 lb/a.i. per acre, and either classify all new/amended chlorpyrifos products (except baits in CRP) as Restricted Use or package the products in large containers, depending on the formulation type, to ensure that remaining chlorpyrifos products are not available to homeowners. In return, EPA stated that with this Agreement, it had no current intention to initiate any cancellation or suspension proceedings under section 6(b) or 6(c) of FIFRA with respect to the issues addressed in the Agreement.

EPA previously published on September 20, 2000 a Federal Register Notice (65 FR 56886) (FRL-6743-7) announcing receipt of amendments and cancellations for manufacturinguse products and associated enduse products for signatories of the Memorandum of Agreement that was signed on June 7, 2000 and subsequent ancillary agreements. A copy of the Memorandum of Agreement that was signed on June 7, 2000 is located in docket control number OPP-34203D.

B. Requests for Voluntary Cancellation of End-Use Products

Pursuant to the Agreement and FIFRA section 6(f)(1)(A), several registrants have submitted requests for voluntary cancellation of registrations for their end-use products. The registrations for which cancellations were requested are identified in the following Table 1.

Table 1.-End-Use Product Registration Cancellation Requests
Company | Reg. No. | Product
Verdant Brands, Inc | 70-178 | Dursban 1/2G Granular Insecticide
| 70-180 | Dursban Lawn & Ornamental Spray
| 70-184 | Kill-Ko Dursban 1G Granular Insecticide
| 70-228 | Home Pest Insect Killer
| 70-232 | Rigo Dursban 2EC Liquid Insecticide
| 70-255 | Rigo Home Pest Control
| 70-286 | Rigo Dursban 1E Insecticide
| 70-290 | Rigo's Best Termite Killer
Dexol, A Division of Verdant Brands, Inc | 192-141 | Dexol Dexa-Klor Granules Soil Insect Control
| 192-142 | Dexol Dexa-Klor Insect Spray
| 192-151 | Dexol Dexa-Klor Pest Control Indoor Insect Killer
| 192-171 | Dexol Roach, Cricket and Spider Dust
| 192-173 | Dexol Termite and Lawn Insect Killer
| 192-180 | Dexol Dursban Granules Insect Control
| 192-192 | Dexol Predator Home Insect Killer II
Whitmire Micro-Gen Research Laboratories, Inc. | 499-147 | Whitmire PT 270 Dursban
| 499-256 | Whitmire Chlorpyrifos Pressurized Residual Spray
| 499-270 | Whitmire 1-12 Insecticide
| 499-292 | Whitmire PT 279 Engage Residual Injection System
| 499-315 | Whitmire Duration PT 275
| 499-317 | Whitmire 1-6 Insecticide
| 499-364 | Whitmire PT 1900 Total Release Insecticide
| 499-379 | Whitmire PT 479 Regulator
| 499-423 | Whitmire TC-135 Chlorpyrifos MC
| 499-424 | Whitmire TC-160 Microencapsulated Termiticide
| 499-448 | Whitmire TC 151 Bait
Walco-Linck Company | 506-158 | TAT Flea & Tick Killer with Residual Action
| 506-164 | TAT Roach & Ant Killer II
The Scotts Company | 538-69 | Scotts Western Lawn Insect Control
| 538-94 | Scotts Western Lawn Insect Control Plus Fertilizer
| 538-140 | Summer Insect and Disease Control Plus Lawn Fertilizer
| 538-153 | Scotts Proturf Insect Control Plus Fertilizer
| 538-154 | Scotts Summer Insect Control Plus Fertilizer For Lawns
Rockland Corporation | 572-213 | Rockland Insecticide for Wood Destroying Pests
| 572-219 | Rockland Super Professional Dursban Chinch Bug Killer
Indy Specialty Products, Inc. | 654-131 | Klor-Ban Concentrate
Prentiss Incorporated | 655-577 | Prentox Residual Insect Spray #2
| 655-739 | Prentox Pyrifos 0.5 Water Base Insecticide
| 655-743 | Prentox Pyrifos 1E
The Garden Grow Company | 802-530 | Lilly/Miller Chlorban Insect Spray
| 802-532 | Lilly/Miller Chlorban Insect Granules
| 802-560 | Lilly/Miller 1% Chlorban Insect Granules
| 802-595 | Lilly/Miller Hose'n Go Ant, Flea & Tick Killer
Southern Agricultural Insecticides, Inc. | 829-250 | Home & Garden Home Pest Control Spray
| 829-281 | SA-50 Brand Home Pest Control Concentrate
Green Light Company | 869-158 | Green Light Dursban Granules
| 869-168 | Green Light Many Purpose Dursban Granules
| 869-172 | Green Light Borer Killer II
| 869-184 | Green Light Fire Ant Killer
| 869-185 | Green Light House Plant Spray II
| 869-191 | Green Light Indoor Flea & Tick Spray
| 869-205 | Green Light Ready-to-Use Fire Ant Mound Drench
| 869-209 | Green Light Dursban 5% Granules
| 869-210 | Green Light Double Dursban Granules
| 869-221 | Green Light Many Purpose Dursban Concentrate II
The Garden Grow Company | 909-94 | Cooke Act Plus Lawn Insecticide
| 909-108 | Cooke Ant Barrier
Agriliance | 1381-149 | Green Velvet Lawn Food Plus Insect Control
Universal Cooperatives, Inc. | 1386-627 | Red Panther Dursban Granular Turf and Lawn Insecticide
| 1386-628 | Red Panther Dursban 1
| 1386-659 | Agway Insect Spray
I. Schneid | 2155-127 | KR-24
PBI/Gordon Corporation | 2217-646 | Gordon's Dursban Turf Insecticide
Sergeant's | 2517-52 | Sergeant's Flea & Tick Collar
| 2517-57 | Sergeant's Fast-Acting Flea & Tick Collar for Dogs
Hartz | 2596-135 | Hartz 330 Day Flea & Tick Collar for Dogs
Wellmark International | 2724-327 | Zoecon RF-150 Yard and Kennel Spray
| 2724-486 | Arthitrol 0.5% Dursban (Granular) Ant and Roach Bait
Coyne Chemical Company | 3050-136 | Coyne Formula No. 101
ABC Compounding | 3862-93 | Assault
| 3862-126 | WB Residual Pressurized Spray
BETCO | 4170-78 | RA26 Residual Insecticide Spray
Combe Incorporated | 4306-15 | Sulfodene Scratchex Flea and Tick Collar for Dogs
Pet Chemicals | 4758-135 | Holiday Flea & Tick Killer
S.C. Johnson & Son, Inc. | 4822-152 | Raid Treatment for Crawling Insects
| 4822-189 | Raid Liquid Roach & Ant Killer Formula I
| 4822-226 | Raid Tree Guard Spray
| 4822-230 | Raid Outdoor Flea Killer
| 4822-231 | Raid Gypsy Moth & Japanese Beetle Killer II
| 4822-232 | Raid Gypsy Moth & Japanese Beetle Killer
| 4822-236 | Raid Tree Guard Spray Formula II
| 4822-238 | Raid Home Insect Killer Formula II
| 4822-263 | Raid Fire Ant Killer
| 4822-264 | Raid Fire Ant Killer Formula 2
| 4822-275 | Raid Outdoor Insect Killer
| 4822-382 | Raid Wasp & Hornet Killer
| 4822-390 | Raid Wasp & Hornet Killer Formula XII
| 4822-402 | Raid Max Roach Bait III
| 4822-412 | Raid Wasp & Hornet Killer ND
| 4822-451 | Raid Wasp & Hornet Killer AD
| 4822-498 | PA Formula #2
Verdant Brands, Inc | 5887-144 | Black Leaf Dursban
| 5887-177 | Ready-to-Use Ant, Roach, Flea and Spider Spray
Midco Products Company, Inc. | 6658-42 | Pyreban-3
Carl Pool Products | 6926-11 | Carl Pool Lawn and Turf Food Plus Dursban 15-5-10
Cessco, Inc. | 6959-73 | Cessco ID Residual Insecticide
Carter-Wallace, Inc. | 8220-38 | Victory 12 Full Year Collar with Dursban Insecticide for Large Dogs
| 8220-39 | Victory II Full Season Cat Collar
Robinson Associates | 8278-6 | Metro (Tested) Soildrin D
Pursell Industries, Inc. | 8660-10 | Sta-Green Law Pest Control & Fertilizer 25-3-3
| 8660-13 | Sta-Green Lawn Pest Control & Fertilizer A
| 8660-14 | Sta-Green Lawn Pest Control & Fertilizer B
| 8660-78 | Dursban Lawn Insect Control
| 8660-88 | Dursban Granules
| 8660-94 | Green Up Insect & Grub Control with Dursban
| 8660-97 | Dursban 4E Insecticide
| 8660-102 | Dursban Plus
| 8660-108 | VertaGreen Dursban—DDVP 1.25 Turf Insecticide
| 8660-109 | VertaGreen Dursban—DDVP 2.50 Turf Insecticide
| 8660-110 | VertaGreen Home Pest Killer
| 8660-122 | Lawn & Ornamental Insect Spray Concentrate
| 8660-123 | Vertagreen Dursban 0.5% Granules
| 8660-152 | VertaGreen Professional Turf Food with Dursban
| 8660-177 | Golden Vigoro Insect Control Plus Lawn Fertilizer
| 8660-182 | Green Turf Lawn Food with Insect Control
| 8660-193 | Ideal 18 Insect Control Plus Lawn Fertilizer
| 8660-194 | Ideal 20 Insect Control Plus Lawn Fertilizer
| 8660-195 | Ideal 25 Insect Control Plus Lawn Fertilizer
| 8660-203 | Koos Dursban 1.00 Granules
| 8660-213 | Par Ex Slow Release Fertilizer Plus Insect Control
| 8660-232 | Vigoro 2.32 Insecticide Granules
| 8660-239 | Vigoro Granular Cinch Bug Control
| 8660-240 | Vigoro Insect Control Plus Lawn Fertilizer for Texas Turf
Sherwin-Williams Company | 10900-67 | 858 P.D. Aqueous Roach & Ant Spray
Illinois Tool Works, Inc. | 11694-91 | Duramist
Speer Products Incorporated | 11715-70 | Speer Roach & Ant Killer
| 11715-97 | Magic Guard Dursban Ant & Roach Pressurized Spray
| 11715-99 | Magic Guard Ant & Roach Killer
| 11715-110 | Mug-A-Bug Professional Strength Insecticide
| 11715-132 | Better World Ready-to-use Insecticide
| 11715-133 | Mug-A-Bug II Professional Strength Insecticide
| 11715-139 | SPI Spot Treatment Spray
| 11715-142 | SPI Ant & Roach Spray
| 11715-163 | Speer Transparent Emulsion Spray 0.1% + 0.5%
| 11715-298 | Pro-Tect Home Pest Control
| 11715-299 | Speer Point Five Chlorpyrifos Aerosol
| 11715-306 | Speer Cyfluthrin Flea Killer
| 11715-312 | Speer D-Trans Residual Spray with Nylar
| 11715-324 | SPI Chlorpyrifos Wasp & Hornet Spray
| 11715-326 | SPI Chlorpyrifos Pet Area Treatment with Nylar
| 11715-327 | Security Granulated Chinch Bug Killer
Louisiana Chemical USA, Inc. | 11746-15 | Davis Kill-A-Bug XI
| 11746-16 | Davis Kill-A-Bug XII
Rainbow Technology Corporation | 13283-8 | Rainbow Insect Control
| 13283-15 | Rainbow Liquid RTU Fire Ant Killer
Positive Formulators, Inc. | 26693-3 | 6 Months Pest Control
| 26693-5 | Killmaster II CC
Unicorn Laboratories | 28293-35 | Unicorn 30 Flea Spray
| 28293-49 | Unicorn Yard & Kennel Spray Concentrate
| 28293-103 | Unicorn House & Carpet Spray WB
| 28293-104 | Unicorn Dursban Household Insecticide
| 28293-211 | Termi-Chlor Termite Concentrate
| 28293-321 | Dursban 1EC Insecticide
PBI/Gordon Corporation | 33955-540 | Acme Ant Granules Contains Dursban Insecticide
| 33955-547 | Acme Dursban Insecticide for Lawns & Ornamentals
| 33955-550 | Acme Roach-Rid Brand Home Pest Killer
Pet Chemicals | 37425-10 | Adams Surface Spray
| 37425-24 | Adams Lawn and Kennel Spray Concentrate
Morgro, Inc. | 42057-100 | Dursban (R) Insecticide
CCL Industries Inc. | 46813-38 | CCL Crawling Insect Killer I
| 46813-42 | CCL Insecticide Foam Spray I
Marman USA, Inc. | 48273-16 | Agroban 4E
Gro Tec, Inc. | 59144-8 | Ant, Flea & Tick Granules
| 59144-9 | Green Charm Dursban 1% Granules
| 59144-37 | R & M Yard & Kennel Spray Concentrate
Kop-Coat, Inc. | 60061-106 | Woodlife B Clear Wood Preservative
Contract Packaging, Inc. | 67572-53 | CP Flea and Brown Dog Tick Granules—S.F.
Speer Products Incorporated | 68688-3 | Elite Yard & Kennel Spray
| 68688-40 | Elite Dursban 1-12-R144 Insecticide

Under section 6(f)(1)(A) of FIFRA, registrants may request, at any time, that EPA cancel any of their pesticide registrations. Section 6(f)(1)(B) of FIFRA requires that EPA provide a 30-day period in which the public may comment before the Agency may act on the request for voluntary cancellation. In addition, section 6(f)(1)(C) of FIFRA requires that EPA provide a 180-day comment period on a request for voluntary termination of any minor agricultural use before granting the request, unless (1) the registrants request a waiver of the comment period, or (2) the Administrator determines that continued use of the pesticide would pose an unreasonable adverse effect on the environment. The registrants have requested that EPA waive the 180-day comment period. In light of this request, EPA is granting the request to waive the 180-day comment period and is providing a 30-day public comment period before taking action on the requested cancellations. Given the potential risks, both dietary and nondietary, that chlorpyrifos use poses, especially to children, EPA intends to grant the requested cancellations at the close of the comment period for this announcement.

C. Requests for Voluntary Amendments to Delete Uses From the Registrations of End-Use Products

Pursuant to section 6(f)(1)(A) of FIFRA, several registrants have also submitted requests to amend their other enduse registrations of pesticide products containing chlorpyrifos to delete the aforementioned uses from any product bearing such use. The registrations for which amendments to delete uses were requested are identified in the following Table 2.

Table 2.—End-Use Product Registration Amendment Requests
Company | Reg. No. | Product/SLNs
Whitmire Micro-Gen Research Laboratories, Inc. | 499-367 | Whitmire PT 275 Dur-O-Cap Microencapsulated Chlorpyrifos Liquid Concentration
| 499-405 | Whitmire PT-1920 Total Release Insecticide
| 499-413 | Whitmire TC 100 Intern
| 499-419 | Whitmire PT 275 Dur-O-Cap Microencapsulated Chlorpyrifos
The Scotts Company | 538-98 | Proturf 30-5-3 Fertilizer Plus Insecticide III
| 538-111 | Proturf Insecticide III
| 538-191 | 24-3-3 Fertilizer Plus Insecticide III
| 538-226 | Fertilizer Plus Insecticide/Preemergent Weed Control
Rockland Corporation | 572-329 | Urban Insect Spray
Prentiss Incorporated | 655-441 | Prentox Residual Concentrate DV-One
| 655-466 | Prentox Dursban 2E Insecticide
| 655-499 | Prentox Dursban 4E Insecticide
| 655-696 | Prentox Pyrifos 0.50 RTU
| 655-764 | Prentox Dursban 2.32G Granular Insecticide
| 655-766 | Prentox Dursban 1/2G Granular Insecticide
| 655-786 | Prentox Pyrifos Residual Spray
| 655-792 | Prentox D+2 Insecticide
| 655-793 | Prentox Super Brand D+2 Insecticide
Southern Agricultural Insecticides, Inc. | 829-223 | SA-50 Dursban .5G Granular insecticide
| 829-279 | SA-50 Dursban 2-E Insecticide
| 829-280 | SA-50 Dursban 4-E Insecticide
| 829-291 | SA-50 Brand Dursban 1% Mole Cricket Bait
| 829-292 | SA-50 Brand Dursban 2.5% Granular Insecticide
ISK Biocides, Inc. | 1022-543 | Chapcide 4-EC
Universal Cooperatives, Inc. | 1386-652 | Security Pro-Turf 1 Insect Control Granules
| 1386-653 | Security Pro-Turf 2 Insect Control Granules
| 1386-613 | Dursban Lawn and Ornamental Insect Control
| 1386-615 | Termite Kill II
| 1386-649 | Dursban 4E Insecticide
Wellmark International | 2724-487 | Arthitrol 0.5% Dursban Paste Bait
Cessco, Inc. | 6959-67 | Cessco Accudose Aerosol for Fire Ant Control
Knox Fertilizer Company, Inc. | 8378-26 | Dursban 92 with Plant Food
| 8378-27 | Dursban 114 + Fertilizer
| 8378-28 | Dursban 50 Granular Insecticide
| 8378-33 | Dursban 1.14 Granules
| 8378-34 | 2.32 Dursban Granules
The Andersons, Inc. | 9198-32 | Turf Care for Lawn Maintenance 38-0-0 with Dursban Brand Insecticide
| 9198-39 | Turf Care Dursban 2.5G
| 9198-68 | The Andersons 1% Dursban Brand Insecticide
| 9198-82 | Tee Time Fertilizer with 0.52% Dursban 30-3-5
| 9198-84 | Andersons Tee Time 30-3-5 with 0.65% Dursban
| 9198-85 | Tee Time Fertilizer with 0.71% Dursban 30-3-5
| 9198-98 | Andersons Tee Time with Team/Dursban I
| 9198-99 | Andersons Tee Time 19-5-9 with Team/Dursban
| 9198-127 | Twinlight Professional Dursban Lawn Insect Killer
| 9198-132 | The Andersons 0.97% Dursban Brand Insecticide
| 9198-137 | The Andersons 0.5% Dursban Brand Insecticide
Gowan Company | 10163-158 | Gowan Chlorpyrifos 4E
Lesco, Inc. | 10404-15 | Lesco 2.32 Granular Insecticide
| 10404-27 | Lesco 40-0-0 Fertilizer with Dursban
| 10404-29 | Lesco 32-5-7 Fertilizer with Dursban
| 10404-40 | Lesco 20-0-10 Fertilizer with Dursban
| 10404-67 | Lesco 1% Dursban Granular
| 10404-81 | Lesco 0.97 Dursban Granules
Sungro Chemicals, Inc. | 11474-40 | Sungro Reside Du
| 11474-55 | Sungro Combo Water Base
| 11474-66 | Sungro Dursbo
| 11474-90 | Sungro Buggone II Residual Insecticide
Rainbow Technology Corporation | 13283-14 | Rainbow Fire Ant Killer
| 13283-17 | Rainbow KO Fire Ant Killer
Drexel Chemical Company | 19713-504 | Regatta 4E
Positive Formulators, Inc. | 26693-2 | Killmaster II
Unicorn Laboratories | 28293-87 | Unicorn House and Carpet Spray
| 28293-99 | Unicorn Dursban Spray
| 28293-121 | Unicorn Dursban—Resmethrin Spray
| 28293-142 | Unicorn Kennel Spray
| 28293-149 | Unicorn House and Carpet Spray II
| 28293-200 | Unicorn Dursban 2E
| 28293-201 | Unicorn Dursban 2.5% Granules
| 28293-202 | Unicorn Dursban 1.0% Granules
| 28293-203 | Unicorn Dursban 1%-D Dust
| 28293-204 | Unicorn Dursban 4E
| 28293-205 | Unicorn Dursban 1-12
| 28293-210 | Dursban 1E Insecticide
| 28293-265 | Unicorn Dursban 6.7% Insecticide
| 28293-266 | Dursban Plus Resmethrin Concentrate
Howard Johnson's Enterprises, Inc. | 32802-19 | Dursban Insecticide 0.7 Plus Fertilizer
| 32802-20 | Dursban 1.14 Granular Lawn and Turf Insect Control
| 32802-21 | Dursban 1.14 Plus Lawn Fertilizer
| 32802-22 | Dursban 2.32G
| 32802-39 | Dursban .5 Granules Insecticide
| 32802-49 | Dursban 100 Granules
Phaeton Corporation | 47006-5 | Orlik Dursban granules
Marman USA, Inc. | 48273-13 | Pestban 2E
| 48273-14 | Pestban TC
| 48273-19 | Pestban 4E
Biodyne Americas Corporation | 59920-1 | Super IQ Insecticide Coating APT
| 59920-2 | Super IQ Insecticide Coating LC

Under section 6(f)(1)(A) of FIFRA, registrants may request, at any time, that their pesticide registrations be amended to delete one or more pesticide uses. The registrants have requested that EPA waive the 180-day comment period. In light of this request, EPA is granting the request to waive the 180-day comment period and is providing a 30-day public comment period before taking action on the requested amendments to delete uses. Given the potential dietary and nondietary risks that chlorpyrifos use poses, especially to children, EPA intends to grant the requested amendments to delete uses at the close of the comment period for this announcement.

III. Proposed Existing Stocks Provisions

The registrants have requested voluntary cancellation of the chlorpyrifos registrations identified in Table 1 and voluntary amendment to terminate certain uses of the chlorpyrifos registrations identified in Table 2. Pursuant to section 6(f) of FIFRA, EPA intends to grant the requests for voluntary cancellation and amendment. For purposes of the cancellation order that the Agency intends to issue at the close of the comment period for this announcement, the term existing stocks will be defined, pursuant to EPA's existing stocks policy at 56 FR 29362, Wednesday, June 26, 1991, as those stocks of a registered pesticide product which are currently in the United States and which have been packaged, labeled, and released for shipment prior to the effective date of the cancellation or amendment. Any distribution, sale, or use of existing stocks after the effective date of the cancellation order that the Agency intends to issue that is not consistent with the terms of that order will be considered a violation of section 12(a)(2)(K) and /or 12(a)(1)(A) of FIFRA.

1. Distribution, sale or use of products bearing instructions for use on apple trees post-bloom . The distribution or sale of existing stocks by any person of any product listed in Table 1 or 2 that bears instructions for post-bloom application to apple trees (other than tree trunk use) will not be lawful under FIFRA after December 31, 2000. The use of existing stocks of such product for post-bloom application to apple trees (other than tree trunk use) will not be lawful under FIFRA after December 31, 2000. Any other use of such product until that date must be in accordance with the existing labeling of that product.

2. Distribution or sale by registrants of products bearing other uses— (a) restricted use and package size limitations . (i) The distribution or sale by registrants of existing stocks of any EC formulation product listed in Table 1 or 2 will not be lawful under FIFRA after February 1, 2001 unless the product is labeled as restricted use.

(ii) The distribution or sale by registrants of existing stocks of any product listed in Table 1 or 2 labeled for any agricultural use and that is not an EC, will not be lawful under FIFRA after of February 1, 2001, unless the product is either labeled for restricted use or packaged in containers no smaller than 15 gallons of a liquid formulation, 50 pounds of a granular formulation, or 25 pounds of any other dry formulation;

(iii)The distribution or sale by registrants of existing stocks of any product listed in Table 1 or 2 labeled solely for nonagricultural uses (other than containerized baits in CRP) and that is not an EC, will not be lawful under FIFRA after of February 1, 2001, unless the product is either labeled for restricted use or packaged in containers no smaller than 15 gallons of a liquid formulation or 25 pounds of a dry formulation.

(b) Prohibited uses. The distribution or sale of existing stocks by registrants of any product identified in Table 1 or 2 that bears instructions for any of the following uses will not be lawful under FIFRA after February 1, 2001:

(i) Termite control, unless the product bears directions for use of a maximum 0.5% active ingredient chlorpyrifos enduse dilution;

(ii) Post-construction termite control, except for spot and local termite treatment, provided the label of the product states that the product may not be used for spot and local treatment after December 31, 2002;

(iii) Indoor residential except for containerized baits in CRP;

(iv) Indoor non-residential except for containerized baits in CRP and products with formulations other than EC that bear labeling solely for one or more of the following uses: Warehouses, ship holds, railroad boxcars, industrial plants, manufacturing plants, or food processing plants;

(v) Outdoor residential except for products bearing labeling solely for one or more of the following public health uses: Individual fire ant mound treatment by licensed applicators or mosquito control by public health agencies;

(vi) Outdoor non-residential except for products that bear labeling solely for one or more of the following uses: golf courses, road medians, and industrial plant sites, provided the maximum label application rate does not exceed 1lb./ai per acre; mosquito control for public health purposes by public health agencies; individual fire ant mound treatment for public health purposes by licensed applicators; and fence posts, utility poles, railroad ties, landscape timbers, logs, pallets, wooden containers, poles, posts and processed wood products.

3. Retail and other distribution or sale . The retail distribution of existing stocks of products listed in Table 1 or 2 bearing instructions for the prohibited uses set forth above in Unit III.2.(b)(i)(vi) of this Notice will not be lawful under FIFRA after December 31, 2001. Except as provided in the previous sentence or in Units III.1. and III.4. of this Notice, EPA intends to permit distribution or sale of products identified in Table 1 or 2 by persons other than registrants until such stocks are exhausted.

4. Final distribution, sale and use date for pre-construction termite control. The distribution, sale or use of any product listed in Table 1 or 2 bearing instructions for pre-construction termiticide use will not be lawful under FIFRA after December 31, 2005, unless, prior to that date, EPA has issued a written determination that such use may continue consistent with the requirements of FIFRA.

5. Use of existing stocks . Except as provided above in Units III.1. and III.4., EPA intends to permit the use of existing stocks of products listed in Table 1 or 2 until such stocks are exhausted, provided such use is in accordance with the existing labeling of that product.

List of Subjects

Environmental protection, Memorandum of Agreement, Pesticides and pests.

Dated: November 8, 2000.
Lois Rossi,
Director, Special Review and Reregistration Division, Office of Pesticide Programs.

[FR Doc. 00-29511 Filed 11-16-00; 8:45 am]

BILLING CODE 6560-50-S